DEPARTMENT OF ENERGY

Federal Energy Regulatory Commission

Combined Notice of Filings #1

March 27, 2014.

Take notice that the Commission received the following electric rate filings:

Docket Numbers: ER11-4436-002; ER10-2473-003; ER10-2502-003; ER10-2472-003; ER11-2724-003.

Applicants: Black Hills Power, Inc., Cheyenne Light Fuel & Power Company, Black Hills/Colorado Electric Utility Co, Black Hills Colorado IPP, LLC, Black Hills Wyoming, LLC.

Description: Third Amendment to June 28, 2013 Updated Market Power Analysis of the Black Hills Corporation Public Utilities for the Northwest Region.

Filed Date: 3/19/14.

Accession Number: 20140319-5166.

Comments Due: 5 p.m. ET 4/9/14.

Docket Numbers: ER14-778-002.

Applicants: PacifiCorp.

Description: WECC Unscheduled Flow Mitigation Plan Amended Filing Errata to be effective 1/1/2014.

Filed Date: 3/27/14.

Accession Number: 20140327-5096.

Comments Due: 5 p.m. ET 4/17/14.

Docket Numbers: ER14-804-001.

Applicants: Westar Energy, Inc.

Description: Response to Deficiency Letter, Kansas Electric Power Cooperative, Inc. to be effective 3/1/2014.

Filed Date: 3/25/14.

Accession Number: 20140325-5129.

Comments Due: 5 p.m. ET 4/4/14.

Docket Numbers: ER14-805-001.

Applicants: Westar Energy, Inc.

Description: Response to Deficiency Letter, Full Requirements Electric Service Agreements to be effective 3/1/2014.

Filed Date: 3/25/14.

Accession Number: 20140325-5131.

Comments Due: 5 p.m. ET 4/4/14.

Docket Numbers: ER14-1000-001.

Applicants: Southern California Edison Company.

Description: CLGIA & Distribution Service Agmt for Portal Ridge Solar Project to be effective 12/15/2013. Filing Type: 80.

Filed Date: 3/27/14.

Accession Number: 20140327-5000.

Comments Due: 5 p.m. ET 4/17/14.

Docket Numbers: ER14-1179-000.

Applicants: Midcontinent Independent System Operator, Alliant Energy Corporate Services, Inc., Interstate Power and Light Company.

Description: Supplemental supporting documents to Midcontinent Independent System Operator, Inc. tariff filing of Interstate Power and Light Company.

Filed Date: 3/26/14.

Accession Number: 20140326-5177.

Comments Due: 5 p.m. ET 4/16/14.

Docket Numbers: ER14-1302-000; ER14-1302-001.

Applicants: Seminole Retail Energy Services, L.L.C.

Description: Third supplement to February 11, 2014 and March 4, 2014 Seminole Retail Energy Services, L.L.C. tariff filing.

Filed Date: 3/26/14.

Accession Number: 20140326-5179.

Comments Due: 5 p.m. ET 4/7/14.

Docket Numbers: ER14-1594-000.

Applicants: Lone Valley Solar Park I LLC.

Description: MBR Application to be effective 5/26/2014,

Filed Date: 3/26/14.

Accession Number: 20140326-5137.

Comments Due: 5 p.m. ET 4/16/14.

Docket Numbers: ER14-1595-000.

Applicants: Nevada Power Company.

Description: Rate Schedule No. 142 Dynamic Scheduling Agreement_Apex Generating Station to be effective 3/26/2014.

Filed Date: 3/26/14.

Accession Number: 20140326-5143.

Comments Due: 5 p.m. ET 4/16/14.

Docket Numbers: ER14-1596-000.

Applicants: Lone Valley Solar Park II LLC.

Description: MBR Application to be effective 5/26/2014.

Filed Date: 3/26/14.

Accession Number: 20140326-5149.

Comments Due: 5 p.m. ET 4/16/14.

Docket Numbers: ER14-1597-000.

Applicants: NV Energy, Inc.

Description: Service Agreement No. 104 Amended and Restated IOA—SCAPPA to be effective 3/26/2014.

Filed Date: 3/26/14.

Accession Number: 20140326-5151.

Comments Due: 5 p.m. ET 4/16/14.

Docket Numbers: ER14-1598-000.

Applicants: PacifiCorp.

Description: Termination of Alpental Non-Conforming PTP Agmt—Blue Mountain to be effective 6/10/2014.

Filed Date: 3/27/14.

Accession Number: 20140327-5094.

Comments Due: 5 p.m. ET 4/17/14.

Docket Numbers: ER14-1599-000.

Applicants: PacifiCorp.

Description: Termination of BPA Agmt for Work at Hat Rock Switching Station to be effective 6/2/2014.

Filed Date: 3/27/14.

Accession Number: 20140327-5095.

Comments Due: 5 p.m. ET 4/17/14.

Docket Numbers: ER14-1600-000.

Applicants: PJM Interconnection, L.L.C.

Description: Queue No. NQ-90, Original Service Agreement No. 3795 to be effective 2/20/2014.

Filed Date: 3/27/14.

Accession Number: 20140327-5110.

Comments Due: 5 p.m. ET 4/17/14.

Docket Numbers: ER14-1601-000.

Applicants: PacifiCorp.

Description: OATT Revised Attachment H-1 Updated Depreciation Rates to be effective 1/1/2014.

Filed Date: 3/27/14.

Accession Number: 20140327-5143.

Comments Due: 5 p.m. ET 4/17/14.

Docket Numbers: ER14-1602-000.

Applicants: Public Service Company of Colorado.

Description: Notice of Cancellation of a Power Purchase Agreement between Yampa Valley Electric Association, Inc. and Public Service Company of Colorado.

Filed Date: 3/27/14.

Accession Number: 20140327-5153.

Comments Due: 5 p.m. ET 4/17/14.

Take notice that the Commission received the following open access transmission tariff filings:.

Docket Numbers: OA09-16-005.

Applicants: Northeast Utilities Service Company.

Description: Northeast Utilities Service Company submits 2013 Annual Refund Report—Order 890 Requirement.

Filed Date: 3/27/14.

Accession Number: 20140327-5050.

Comments Due: 5 p.m. ET 4/17/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2014-07477 Filed 4-2-14; 8:45 am]

BILLING CODE 6717-01-P